FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202) 523-5793 or tradeanalysis@fmc.gov.

Agreement No.: 011284-078.

Title: Ocean Carrier Equipment Management Association.

Parties: American President Lines, Ltd.; APL Co. Pte. Ltd.; CMA CGM S.A.; COSCO Shipping Co., Ltd.; Evergreen Line Joint Service Agreement; Hamburg Sud; Hapag-Lloyd AG; Hapag-Lloyd USA, LLC; Hyundai Merchant Marine Co., Ltd.; Kawasaki Kisen Kaisha, Ltd.; Maersk Line A/S; Mediterranean Shipping Company S.A.; Mitsui O.S.K. Lines, Ltd.; Nippon Yusen Kaisha; Orient Overseas Container Line Limited; Wan Hai Lines Ltd.; Yang Ming Marine Transport Corporation; and Zim Integrated Shipping Services Ltd.

Filing Party: Donald Kassilke; Cozen O'Connor; 1200 Nineteenth Street NW, Washington, DC 20036.

Synopsis: The amendment adds Ocean Network Express Pte. Ltd. (“ONE”) as a Party to the Agreement. The amendment also revises the affiliations of certain existing members, specifically Maersk Line A/S and Hamburg-Südamerikanische Dampfschifffahrtsgesellschaft KG shall be treated as one party for all purposes under the Agreement. In addition, the amendment deletes Alianca Navegacao e Logistica Ltda. and United Arab Shipping Co. Ltd. as parties. The parties request expedited review.

Agreement No.: 201238.

Title: Sealand/MSC Vessel Sharing Agreement.

Parties: Maersk Line A/S d/b/a Sealand and MSC Mediterranean Shipping Company S.A.

Filing Party: Wayne Rohde; Cozen O'Connor; 1200 Nineteenth Street NW, Washington, DC 20036.

Synopsis: The agreement authorizes the parties to share vessels in the trade between the U.S. Gulf Coast on the one hand and ports in Panama, Colombia, Guatemala, and Honduras on the other hand.

Agreement No.: 201239.

Title: Sealand/MSC Slot Charter Agreement.

Parties: Maersk Line A/S d/b/a Sealand and MSC Mediterranean Shipping Company S.A.

Filing Party: Wayne Rohde; Cozen O'Connor; 1200 Nineteenth Street NW, Washington, DC 20036.

Synopsis: The Agreement authorizes Sealand to sell space to MSC on its South Atlantic Express service in the trade between ports in Florida on the one hand and ports in Guatemala and Honduras on the other hand.

Agreement No.: 011962-014.

Title: Consolidated Chassis Management Pool Agreement.

Parties: American President Lines, Ltd.; APL Co. Pte. Ltd.; CMA CGM S.A.; COSCO Shipping Lines Co., Ltd.; Evergreen Line Joint Service Agreement; Hamburg Sud; Hapag-Lloyd AG; Hapag-Lloyd USA, LLC; Hyundai Merchant Marine Co., Ltd.; Kawasaki Kisen Kaisha, Ltd.; Maersk Line A/S; Matson Navigation Company, Inc.; Mediterranean Shipping Company S.A.; Mitsui O.S.K. Lines, Ltd.; Nippon Yusen Kaisha; Orient Overseas Container Line Limited; Westwood Shipping Lines, Inc.; Yang Ming Marine Transport Corporation; and Zim Integrated Shipping Services Ltd.

Filing Party: Donald Kassilke; Cozen O'Connor; 1200 Nineteenth Street NW, Washington, DC 20036.

Synopsis: The amendment adds Ocean Network Express Pte. Ltd. (“ONE”) as a Party to the Agreement. The amendment also revises the affiliations of certain existing members, specifically Maersk Line A/S and Hamburg-Südamerikanische Dampfschifffahrtsgesellschaft KG shall be treated as one party for all purposes under the Agreement. In addition, the amendment deletes Alianca Navegacao e Logistica Ltda. as a party to the Agreement.

Dated: February 12, 2018.
Rachel E. Dickon,
Assistant Secretary.

[FR Doc. 2018-03146 Filed 2-14-18; 8:45 am]

BILLING CODE 6731-AA-P